DEPARTMENT OF LABOR

Veterans' Employment and Training Service

Proposed Information Collection Request Submitted for Public Comment and Recommendations Eligibility Data Form: Uniformed Services Employment and Reemployment Rights Act and Veteran's Preference (USERRA/VP)

AGENCY: Veterans' Employment and Training Service (VETS), Labor.

ACTION: Notice.

SUMMARY: The Veterans' Employment and Training Service (VETS) is announcing an opportunity for public comment on a proposed collection of information by the agency. Under the Paperwork Reduction Act (PRA) of 1995, Federal agencies are required to publish notice in the Federal Register concerning each proposed collection of information and to allow 60 days for public comment in response to the notice. In this notice, VETS is soliciting comments concerning the proposed information collection request for the VETS USERRA/VP Form 1010.

DATES: Comments are to be submitted by November 18, 2016.

ADDRESSES: Follow the instructions for submitting comments.

• Email: 1010-FRN-2016-VETS@dol.gov. Include “VETS-1010 Form” in the subject line of the message.

• Fax: (202) 693-4755. Please send comments by fax only if they are 10 pages or less.

• Mail: Kenan Torrans, Deputy Director, Compliance and Investigations, VETS, U.S. Department of Labor, Room S-1316, 200 Constitution Avenue NW., Washington, DC 20210.

• Receipt of submissions, whether by U.S. Mail, email, or FAX transmittal, will not be acknowledged; however, the sender may request confirmation that a submission has been received, by telephoning VETS at (202) 693-4731 (VOICE) (this is not a toll-free number) or (202) 693-4760 (TTY/TDD).

All comments received, including any personal information provided, will be available for public inspection during normal business hours at the above address. People needing assistance to review comments will be provided with appropriate aids such as readers or print magnifiers.

FOR FURTHER INFORMATION CONTACT: Kenan Torrans, Deputy Director, Compliance and Investigations, VETS, U.S. Department of Labor, Room S-1316, 200 Constitution Avenue NW., Washington, DC 20210, or by email at: 1010-FRN-2016-VETS@dol.gov.

SUPPLEMENTARY INFORMATION:

I. Background

The VETS USERRA/VP Form 1010 (VETS-1010 Form) is used to file complaints with the Department of Labor's Veterans' Employment and Training Service (VETS) under either the Uniformed Services Employment and Reemployment Rights Act (USERRA) or the laws and regulations related to Veterans' Preference (VP) in Federal employment. On October 13, 1994, the Uniformed Services Employment and Reemployment Rights Act (USERRA), Public Law 103-353, 108 Stat. 3150 was signed into law. Contained in Title 38, U.S.C. 4301-4335, USERRA is the replacement for the Veterans' Reemployment Rights (VRR) law. The purposes of USERRA laws and regulations are: To minimize disruption to the lives of persons who perform service in the uniformed services (including the National Guard and Reserves), as well as to their employers, their fellow employees, and their communities, by providing for prompt reemployment of such persons upon completion of such service; to encourage individuals to participate in non-career uniformed service by eliminating and minimizing the disadvantages to civilian careers and employment which can result from such service; and to prohibit discrimination in employment and acts of reprisal against persons because of their obligations in the uniformed services, prior service, intention to join the uniformed services, filing of a USERRA claim, seeking assistance concerning an alleged USERRA violation, testifying in a proceeding, or otherwise assisting in an investigation of a USERRA claim. The Veterans Employment Opportunities Act (VEOA) of 1998, Public Law 105-339, 12 Stat. 3182, contained in Title 5 U.S.C. 3330a-3330c, authorizes the Secretary of Labor to provide assistance to preference eligible individuals who believe their rights under the veterans' preference laws have been violated, and to investigate claims filed by those individuals. The purposes of veterans' preference laws include: To provide preference for certain veterans over others in Federal hiring from competitive lists of applicants; to allow access and open up Federal job opportunities to veterans that might otherwise be closed to the public; and to provide preference eligible veterans with preference over others in retention during reductions in force in Federal agencies. VETS has an electronic complaint form, the VETS e1010, available on our Web site at: https://vets1010.dol.gov/Login.aspx, and which may also be accessed via our USERRA elaws Advisor (www.dol.gov/elaws/USERRA.htm) and Veterans' Preference elaws Advisor (www.dol.gov/elaws/vetspref.htm). The e1010 may be completed and submitted electronically without having to download, print, and mail a signed hard copy to our Atlanta data center.

II. Desired Focus of Comments

VETS is soliciting comments concerning the proposed information collection in the VETS-1010 Form. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

III. Current Actions

This notice requests an extension of the current Office of Management and Budget approval of the paperwork requirements for VETS-1010 Form.

Type of Review: Extension.

Agency: Veterans' Employment and Training Service.

Title: VETS/USERRA/VP (VETS-1010 Form.)

OMB Number: 1293-0002.

Affected Public: Individuals or households.

Total Respondents: Approximately 2,250.

Average Time per Response: 30 minutes, including 10 minutes estimated to collect the information needed to file a USERRA or VP claim and 20 minutes estimated to complete the form.

Total Burden Hours: 1,125 hours.

Total Annualized Capital/Startup costs: $0.

Total Initial Annual Costs: $0.

Comments submitted in response to this notice will be summarized and included in the request for the Office of Management and Budget approval of the information collection request.

Comments will become a matter of public record.

Michael H. Michaud,
Assistant Secretary, Veterans' Employment and Training Service, U.S. Department of Labor.

[FR Doc. 2016-22484 Filed 9-16-16; 8:45 am]

BILLING CODE 4510-79-P